DEPARTMENT OF LABOR

Employment and Training Administration

Draft Finding of No Significant Impact for the Proposed Rehabilitation or Replacement of Buildings at the Gulfport Job Corps Center, 3300 20th Street, Gulfport, Mississippi 39501

AGENCY: Office of Job Corps, Employment and Training Administration (ETA), Labor.

ACTION: Notice.

SUMMARY: The Department of Labor (DOL or Department), ETA, Office of Job Corps, is issuing a draft Finding of No Significant Impact (FONSI) regarding the proposed rehabilitation or replacement of buildings at the Gulfport Job Corps Center (JCC) in Gulfport, Mississippi.

DATES: To be ensured for consideration, comments must be submitted in writing on or before January 10, 2018.

ADDRESSES: Comments can be submitted by email to Marsha Fitzhugh at fitzhugh.marsha@dol.gov.

FOR FURTHER INFORMATION CONTACT: Marsha Fitzhugh, Division of Facilities and Asset Management, Office of Job Corps, ETA, U.S. Department of Labor, 200 Constitution Avenue NW., Room N-4463, Washington, DC 20210; Telephone (202) 693-3000 (this is not a toll-free number).

SUPPLEMENTARY INFORMATION:

I. Introduction

Established in 1964, Job Corps is a national program administered by ETA in the Department. It is the nation's largest federally-funded, primarily residential training program for youth ages 16-24. With 125 centers across the country, Job Corps seeks to change lives through education and job training for in-demand careers. Job Corps serves at-risk young people who seek to overcome barriers to employment, which can include poverty, homelessness, or aging out of the foster care system, by providing them with the academic, career technical, and employability skills to enter the workforce, enroll in post-secondary education, pursue apprenticeship opportunities, or enlist in the military.

The Gulfport JCC opened in 1978 utilizing buildings that were initially constructed in 1954 as a high school for African-American students, known as the 33rd Avenue High School. The three original high school buildings, which are considered eligible for inclusion on the National Register of Historic Places (NRHP), sustained extensive damage during Hurricane Katrina. As a result, the Gulfport JCC reopened with temporary facilities three and a half years after the storm. These three original buildings have not been rehabilitated.

II. Environmental Assessment and Draft Finding of No Significant Impact

Pursuant to the Council on Environmental Quality (CEQ) Regulations (40 Code of Federal Regulations [CFR] part 1500-08) implementing procedural provisions of the National Environmental Policy Act (NEPA), the DOL, ETA, and Office of Job Corps, in accordance with 29 CFR 11.11(d), give notice that an Environmental Assessment (EA) has been prepared for the proposed rehabilitation or replacement of buildings at the Gulfport Job Corps Center (JCC), Gulfport, Mississippi. The EA evaluated the potential environmental and socioeconomic impacts associated with the redevelopment of buildings at the Gulfport JCC. Three action alternatives and the No Action Alternative were evaluated in the EA. After careful consideration, it was determined that the Preferred Alternative, to retain the existing street-facing building façades and construct new buildings behind the façades, would best meet the purpose and need without causing significant environmental impacts. This Preferred Alternative would add approximately 93,000 gross square feet (GSF) of permanent, functional space at the Gulfport JCC.

The Preferred Alternative would retain the appearance of the historic structures by retaining the street-facing façades of Building 1, originally the main high school building, and Building 2, the gymnasium. New buildings would be constructed behind the façades to provide administration, educational, medical/dental, and recreation spaces that meet the needs of the Gulfport JCC and Job Corps program guidelines. Building 5, the cafeteria, would be demolished and replaced by a new, modern cafeteria, and a new building would be constructed for vocational training for shop-related trades and for storage and maintenance. The Preferred Alternative would result in a modern Job Corps instructional campus that meets the purpose of and need for the proposed action.

Under the Preferred Alternative, there would be adverse impacts on historic properties; however, adverse impacts would be resolved through mitigation. A Memorandum of Agreement (MOA) between DOL, the Advisory Council on Historic Preservation, and the City of Gulfport memorializing the steps necessary to mitigate the adverse effects cause by the Preferred Alternative for the Gulfport JCC redevelopment project was executed on September 19, 2017. Mitigation measures include retaining the street-facing façades of Buildings 1 and 2, with new buildings being constructed behind the façades; preparation of Historic American Building Survey (HABS) Level II, which would record the appearance and history of the buildings to be filed with the National Park Service for inclusion in the Library of Congress' HABS collection; an exhibit near the entrance to the new Main Building to preserve the memory of the 33rd Avenue High School and honor its alumni; and renaming the Gulfport JCC to memorialize the 33rd Avenue High School. Because adverse impacts on cultural resources would be resolved through mitigation, the Preferred Alternative would not result in significant impacts on cultural resources.

To comply with the CEQ requirement for “early and meaningful public participation,” the public was invited to meetings and encouraged to provide input throughout the process of developing the EA. A public scoping meeting was held on June 14, 2016, in Gulfport, to discuss the proposed project. Public comments received at the meeting were considered in the preparation of the EA. The Draft EA was provided to the public for a 30-day review and comment period. The availability of the EA for review was announced through a news release published in the Sun Herald on November 16, 2016, and a Federal Register notice published on November 17, 2016. Additionally, the EA was available at the Gulfport Public Library and posted on the Job Corps Web site, and copies of the EA were mailed to key stakeholders. Comments received were addressed as part of the Section 106 consultation and incorporated into the MOA and the Final EA. A second public meeting was held on February 15, 2017, in the Gulfport City Council Chambers to present information on the Section 106 consultation. Forty-three citizens attended the meeting. Comments received were incorporated into the MOA.

The Draft Final EA and Draft FONSI will be available for public review and comment for a period of 30 days at the Gulfport Public Library, 1708 25th Avenue, Gulfport, MS 39501, and at http://www.jobcorps.gov/home.aspx.

Nancy M. Rooney,
Deputy Assistant Secretary for Employment and Training.

[FR Doc. 2017-26579 Filed 12-8-17; 8:45 am]

BILLING CODE 4510-FT-P